DEPARTMENT OF JUSTICE

Bureau of Prisons

28 CFR Part 551

[BOP-1002-F]

RIN 1120-AA03

Public Works and Community Service Projects

AGENCY: Bureau of Prisons, Justice.

ACTION: Final rule.

SUMMARY: This document finalizes Bureau of Prisons (Bureau) interim rules on volunteer community service projects. Volunteer community service projects provide for the public good. They are developed by local government or by a non-profit charitable organization for Bureau approval. This rule provides for inmates' voluntary participation in a volunteer community service project. We intend this rule to promote the public interest and provide for the security and good order of the institution by reducing inmate idleness.

EFFECTIVE DATE: May 19, 2003.

ADDRESSES: Office of General Counsel, Bureau of Prisons, 320 First Street, NW., Washington, DC 20534.

FOR FURTHER INFORMATION CONTACT: Sarah Qureshi, Office of General Counsel, Bureau of Prisons, phone (202) 307-2105.

SUPPLEMENTARY INFORMATION: In this document, the Bureau finalizes its regulations in 28 CFR part 551, subpart F, on Public Works and Community Service Projects. We published this rule in the Federal Register as an interim rule on January 19, 1993 (58 FR 5210).

Under the interim rule, a volunteer community service project provides for the public good, in keeping with the overall goals of the community, such as community-wide beautification and public safety. The project must be developed by local government or by a non-profit charitable organization for Bureau approval. A community service project is not a work assignment. Any inmate who chooses to participate does so voluntarily, and may not receive performance pay for participation in the project.

Existing Bureau regulations provide for inmate monetary contributions to an international, national, or local organization, including political parties, so long as the contribution does not violate any law or regulation (see 28 CFR 551.50). This amendment expands this policy by specifying how an inmate may choose to make a contribution of time and effort through participation in an approved volunteer community service project. The charitable activity resulting from participation in a volunteer community service project may not impair contracts for services in the community.

We published this rule as an interim final rule on January 19, 1993 (58 FR 5210). Since we received no comments on this rule, we are publishing it as final, without change.

Executive Order 12866

This regulation has been drafted and reviewed in accordance with Executive Order 12866, “Regulatory Planning and Review”, section 1(b), Principles of Regulation. The Director, Bureau of Prisons has determined that this rule is not a “significant regulatory action” under Executive Order 12866, section 3(f), and accordingly this rule has not been reviewed by the Office of Management and Budget.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: This rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 551

Prisoners.

Harley G. Lappin,
Director, Bureau of Prisons.

Accordingly, for the reasons discussed above, we adopt as final the interim final rule published on January 19, 1993 (58 FR 5210), without change.

[FR Doc. 03-9596 Filed 4-17-03; 8:45 am]

BILLING CODE 4410-05-P